DEPARTMENT OF HOMELAND SECURITY

Coast Guard

[Docket No. USCG-2013-0521]

Termination of Radiotelephone Medium Frequency 2182 kHz Watchkeeping, 2187.5 kHz Digital Selective Calling Channel Guard, and 2670 kHz Broadcasts

ACTION: Notice.

SUMMARY: The United States Coast Guard is announcing that it will no longer maintain a watch on 2182 kHz, will no longer guard the Digital Selective Calling (DSC) channel 2187.5 kHz, and will no longer transmit Marine Information Broadcasts on 2670 kHz. The minimal use of these channels by mariners for distress and safety coupled with antenna site deterioration, costly upkeep, and extensive maintenance required to support the medium frequency (MF) system have led to a Coast Guard decision to terminate the MF services and direct the public mariner to use more modern safety and distress services which can be more reliably received by the Coast Guard.

DATES: The termination announced in this notice is effective on August 1, 2013.

FOR FURTHER INFORMATION CONTACT: For questions on this Notice, contact Larry S. Solomon, Spectrum Management and Telecommunications Policy Counsel (Commandant CG-652) telephone: 202-475-3556; email: larry.s.solomon@uscg.mil.

SUPPLEMENTARY INFORMATION: The frequency 2182 kHz (which is in the frequency band generally referred to as medium frequency (MF)), was designated more than 65 years ago at the International Telecommunications Union Radio Conference (Atlantic City, 1947) as an international radiotelephone distress frequency. Shore stations that operated in this MF band, and ships subject to the International Convention for the Safety of Life at Sea Ch. IV, Reg. 5 (SOLAS) were required to maintain a watch on this frequency.

Beginning in 1987, the International Telecommunications Union Radio Regulations and SOLAS were amended to incorporate this MF radiotelephone watchkeeping requirement within the Global Maritime Distress and Safety System (GMDSS), an internationally agreed-upon set of satellite and terrestrial communications systems used to increase safety and facilitate the location and rescue of distressed ships, boats and aircraft. Under GMDSS, ship and shore exclusive watchkeeping on MF 2182 kHz was no longer a requirement, but instead became only one of several frequencies available for distress communications.

No domestic regulations exist requiring the Coast Guard to provide MF distress safety watchkeeping services, although Federal Communications Commission regulations in 47 CFR Part 80 mandate certain carriage requirements in order to communicate in an emergency. SOLAS requires the Coast Guard to provide, as it deems practical and necessary, appropriate shore-based facilities for GMDSS services including those in the 1.6-4 MHz range (SOLAS). The Coast Guard, in cooperation with other agencies and organizations, provides each of the other five services listed in SOLAS regulations, including satellite communications, support for 406 MHz satellite emergency position-indicating radio beacons (EPIRBs), VHF communications through Rescue 21, high frequency radiocommunications, and NAVTEX ¹ broadcasts of maritime safety information.

¹ NAVTEX is a broadcast warning system that delivers navigational warnings, meteorological warnings and forecasts, and other marine safety information.

While many countries terminated 2182 kHz watchkeeping from shore when GMDSS was implemented in 1999, the Coast Guard continued its watch on this frequency to support smaller vessels not subject to SOLAS that operate between approximately 20 and 100 miles from shore. Advancements in satellite, digital, very high frequency (VHF), and high frequency (HF) radio communication equipment, including satellite service provider competition, have improved service and reduced costs of this equipment causing MF radiotelephone to become obsolete.

In addition, a detailed review of several Coast Guard MF sites revealed significant antenna ground deterioration and infrastructure support degradation, leaving the Coast Guard at risk for not being able to receive or respond to maritime distress calls on 2182 kHz or 2187.5 kHz, and not being able to transmit effectively on 2670 kHz. Early last year, as a result of physical site surveys, the Coast Guard confirmed the significant site deterioration and, therefore, the unreliability of receiving MF distress transmissions at many locations. The Coast Guard provided notifications of the situation to mariners using Local Notice to Mariners and radio broadcasts. The Coast Guard did not receive any adverse reaction to those notifications.

The site deterioration, costly upkeep, and extensive maintenance required to support this legacy MF system, as well as the relatively minimal use by mariners, has led the Coast Guard to decide to discontinue support of the MF system. The Coast Guard will discontinue all watchkeeping and transmissions on MF channels, namely the 2182 kHz voice channel, the 2187.5 kHz Digital Selective Calling (DSC) channel and Marine Information Broadcasts (MIBs) on 2670 kHz.

Mariners have several increasingly low cost and commonly available alternatives to using MF distress and non-distress channels. Instead of relying on 2182 kHz voice and 2187.5 kHz DSC, mariners can tune their existing HF radios to other GMDSS radiotelephone distress voice frequencies the Coast Guard monitors (i.e., 4125, 6215, 8291, or 12290 kHz voice), use satellite-based communication for EPIRB and voice communications, or use HF radios equipped with DSC. The information in the 2670 kHz broadcasts (weather forecasts and warnings, Notice to Mariners, and urgent marine information broadcasts) will continue to be available from other broadcast sources (e.g., SafetyNet ², NAVTEX, VHF) and online. The Coast Guard urges mariners to use these other alternatives to the MF channels for distress calls, DSC calls, and information broadcasts.

² SafetyNET is a satellite-based broadcast warning system that delivers high seas navigational warnings, meteorological warnings and forecasts, ice reports, and other marine safety information.

Mariners should not need to purchase any new equipment to make this change from 2182 kHz to other GMDSS distress frequencies. Most radiocommunications equipment carried by vessels is able to operate in the 2-27.5 MHz range in addition to the VHF radiotelephone also carried by ships. While some older radios may not tune to other frequencies, these radios are no longer sold, parts are not available for repairing them and they are not typically found on vessels. Therefore, the overwhelming majority of vessels simply need to tune their radios from 2182 kHz to another GMDSS distress frequency (such as 4125, 6215, 8291, or 12290 kHz). Because VHF frequencies may not be reliable more than 20 nautical miles from shore, any vessel that operates more than 20 nautical miles from the coast should carry radiocommunications equipment capable of tuning to distress frequencies other than VHF to ensure the vessel is able to make a distress call when needed.

All vessel owners and operators are strongly advised to check their communication equipment regularly to ensure it is properly installed, operating and tuned to the most reliable distress channels. For more information visit the Coast Guard's Navigation Center Web site at www.navcen.uscg.gov.

Authority

This notice is issued under authority of 14 U.S.C. 93(a)(16) and 5 U.S.C. 552(a).

Dated: July 9, 2013.
Alfredo Mistichelli,
U.S. Coast Guard, Acting Chief, Office of Information Assurance and Spectrum Policy, Commandant (CG-65).

[FR Doc. 2013-16801 Filed 7-12-13; 8:45 am]

BILLING CODE 9110-04-P